DEPARTMENT OF TRANSPORTATION

Surface Transportation Board

[STB Docket Nos. AB-589X¹; AB-295 (Sub-No. 4X)]

Monon Rail Preservation Corporation—Abandonment Exemption and the Indiana Rail Road Company—Discontinuance of Service Exemption; Monroe County, IN

¹ The docket numbers of the parties were transposed in the petition for exemption.

On August 21, 2001, Monon Rail Preservation Corporation (Monon) and The Indiana Rail Road Company (INRD) (collectively, petitioners) jointly filed with the Surface Transportation Board (Board) a petition under 49 U.S.C. 10502 for exemption from the provisions of 49 U.S.C. 10903 for Monon to abandon and for INRD to discontinue service over a 1,500-foot segment of Monon's Ellettsville Line,² extending from the end of the line at milepost Q213.41 to milepost Q213.69, in Monroe County, IN. The line traverses U.S. Postal Service Zip Code 47429. There are no stations on the line.

² INRD was granted local trackage rights over the entire Ellettsville Line in The Indiana Rail Road Company—Trackage Rights Exemption—Monon Rail Preservation Corporation, STB Finance Docket No. 33669 (STB served Oct. 16, 1998). Subsequently, INRD was authorized to operate the Ellettsville Line in The Indiana Rail Road Company—Operation Exemption—Monon Rail Preservation Corporation, STB Finance Docket No. 33670 (STB served Feb. 21, 2001). Although petitioners characterize INRD's transaction as a discontinuance of trackage rights, they are technically seeking, with respect to the 1,500-foot segment, discontinuance of INRD's service under the operating agreement, which superseded the trackage rights.

The line does not contain federally granted rights-of-way. Any documentation in Monon's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by December 7, 2001.

Any offer of financial assistance (OFA) under 49 CFR 1152.27(b)(2) will be due no later than 10 days after service of a decision granting the petition for exemption. Each OFA must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 1, 2001. Each trail use request must be accompanied by a $150 filing fee. See 49 CFR 1002.2(f)(27).

All filings in response to this notice must refer to STB Docket Nos. AB-589X and AB-295 (Sub-No. 4X) and must be sent to: (1) Surface Transportation Board, Office of the Secretary, Case Control Unit, 1925 K Street, NW., Washington, DC 20423-0001; and (2) John Broadley, 1054 31st Street NW., Suite 200, Washington, DC 20007. Replies to the petition are due on or before October 1, 2001.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1545. (TDD for the hearing impaired is available at 1-800-877-8339.)

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: August 31, 2001.
By the Board, David M. Konschnik, Director, Office of Proceedings.
Vernon A. Williams,
Secretary.

[FR Doc. 01-22635 Filed 9-7-01; 8:45 am]

BILLING CODE 4915-00-P